DEPARTMENT OF HEALTH AND HUMAN SERVICES

Centers for Disease Control and Prevention

[Program Announcement Number 02128]

Targeted Injury Intervention Programs; Notice of Availability of Funds

A. Purpose

The Centers for Disease Control and Prevention (CDC), National Centers for Injury Prevention and Control (NCIPC), announces the availability of fiscal year (FY) 2002 funds for a cooperative agreement for Targeted Injury Intervention Programs. This program addresses the “Healthy People 2010” focus areas for Injury and Violence Prevention.

The purpose of this program is to strengthen and support the capacity of state injury programs by awarding funds for targeted injury intervention activities to States which demonstrate an existing capacity to access and analyze current state injury data and to design, develop, and implement a targeted injury prevention program of high public health importance in the state.

The goal of this program is to support State public health agencies in developing their capacity to implement effective, comprehensive injury prevention programs, including both unintentional injury and violence prevention components.

B. Eligible Applicants

Assistance will be provided only to the official public health agencies of States or their bona fide agents, including the District of Columbia, the Commonwealth of Puerto Rico, the Virgin Islands, the Commonwealth of the Northern Mariana Islands, American Samoa, Guam, the Federated States of Micronesia, the Republic of the Marshall Islands, and the Republic of Palau.

C. Availability of Funds

Approximately $1.2 million is available in FY 2002 to fund approximately three to four awards. It is expected that the average award will be $300,000, ranging from $275,000 to $350,000. It is expected that the awards will begin on or about September 30, 2002 and will be made for a 12-month budget period within a project period of up to three years. Funding estimates may vary and are subject to change.

Continuation awards within an approved project period will be made on the basis of satisfactory progress as evidenced by required reports and the availability of funds.

Pre-Application Conference Call: In addition, for interested applicants, a telephone conference call for a pre-application Injury technical assistance workshop will be held on Friday, June 14, 2002, from 1:30 pm to 2:30 pm, Eastern Standard Time. The conference name is “Pre Application Grant Workshop”, the bridge number for the conference call is 1-800-713-1971, and the conference code is #52104. If you have a problem during your conference, you may press *0 at anytime to signal the attendant.

D. Program Requirements

In conducting activities to achieve the purpose of this program, the recipient will be responsible for the activities listed under 1 (Recipient Activities), and CDC will be responsible for the activities listed under 2. (CDC Activities).

1. Recipient Activities

a. Select an injury (unintentional or violence) topic or area for intervention based on identified priorities which have been established by the State's current Injury Prevention Plan (or similar consensus document which provides a framework for existing data-driven action to reduce the burden of injury in the state).

b. Develop, enhance, or provide evidence of a current detailed targeted intervention plan focused specifically on the priority topic or area of injury identified by the State Injury Prevention Plan (or similar document) identified in a, above.

c. Utilize, for implementation, intervention activities which are based on proven or very promising approaches as documented in the scientific literature (i.e., evidence based intervention activities).

d. Assess the State public health agency's injury infrastructure and capacity and determine key staff, expertise, and associated resources needed to coordinate and implement the targeted intervention plan described above. Determine how the addition of these staff and their activities will best further creation and operation of a comprehensive State injury program.

e. Build new and enhance existing partnerships by identifying and inviting potential key private, professional, voluntary, and non-profit injury prevention organizations, policymakers, consumers, payers, media, state, and Federal agencies, surveillance agencies, research and academic institutions, and others to become members of a new or existing state injury prevention and control coalition. Focus the partnerships on supporting and enhancing the targeted intervention plan's activities. States with existing injury advisory committees might wish to build upon these to form their coalitions, while still maintaining an active focus on development of a comprehensive injury prevention program.

f. Enhance and build new linkages among existing state-based surveillance systems and other data sources to refine and evaluate targeted intervention activities and to further develop comprehensive injury prevention activities.

g. Conduct systematic evaluation of the targeted intervention activities; develop performance indicators to use as benchmarks for improvement and to determine the impact of the targeted intervention activities; determine how conducting these targeted intervention activities impacts the State's ability to develop a comprehensive injury prevention program.

Applicants are required to provide Measures of Effectiveness that will demonstrate the accomplishment of the various identified objectives of the grant/cooperative agreement. Measures must be objective/quantitative and must measure the intended outcome. These Measures of Effectiveness shall be submitted with the application and shall be an element of evaluation.

2. CDC Activities

a. Assist with the exchange of information and collaboration among recipients.

b. Provide to recipients relevant, state of the art, research findings and public health recommendations related to comprehensive injury control.

c. Provide ongoing guidance, consultation, and technical assistance in conducting Recipient Activities.

d. Assist with identifying and developing national injury prevention and control campaigns and materials that can be integrated into comprehensive injury control programs.

E. Content

Application

Use the information in the Program Requirements, Other Requirements, and Evaluation Criteria sections to develop the application content. Your application will be evaluated on the criteria listed, so it is important to follow them in laying out your program plan. The narrative should be no more than 30 double-spaced pages, printed on one side, with one inch margins, and unreduced 12 point Courier Font. Number each page consecutively and provide a complete Table of Contents. The total number of pages should not exceed 50 pages including the appendix. All materials must be provided in an unbound, one-sided, 8.5 x 11 inch pages, suitable for photocopying.

F. Submission and Deadline

Application

Submit the original and two copies of PHS 5161-1 (OMB Number 0920-0428). Forms are available in the application kit and at the following Internet address: www.cdc.gov/od/pgo/forminfo.htm.

On or before 5 pm Eastern Standard Time on June 24, 2002, submit the application to:

Technical Information Management-PA02128,

Procurement and Grants Office,

Centers for Disease Control and Prevention,

2920 Brandywine Rd., Room 3000,

Atlanta, GA 30341-4146.

Application forms must be submitted in the following order:

Cover Letter

Table of Contents

Application

Budget Information Form

Budget Justification

Checklist

Assurances

Certifications

Disclosure Forms

HIV Assurance Form

Human Subject Certification

Indirect Cost Rate Agreement

Narrative

G. Evaluation Criteria

Application

Each application will be evaluated individually against the following criteria by an independent review group appointed by CDC.

1. Background and Need (15 points)

a. The extent to which the applicant submits a State Injury Prevention Plan or similar consensus document which is up to date and which includes:

(1) An assessment and prioritization of the injury burden (both unintentional injury and violence) in the State using population-based data.

(2) Short-term and long-term goals and objectives that address a range of injury issues based on identified needs.

(3) An inventory assessment of existing and needed resources to implement specific injury intervention programs.

(4) Evidence that the plan was developed as part of a collaborative process with other state governmental and non-governmental agencies.

2. Targeted Intervention Plan (25 points)

a. The extent to which the applicant describes design and development of a specific injury prevention intervention activity or set of activities that focuses on a priority area of injury identified in the State Injury Prevention Plan (e.g. motor vehicle injuries, bicycle head injuries, youth violence or suicide prevention, etc.)

b. The extent to which proposed targeted intervention activities are based on evidence documented in the scientific literature and on the activities' potential impact in reducing the targeted unintentional injury or violence in the State.

c. The extent to which the injury problem chosen for intervention is based on the relative magnitude of the problem (i.e., in comparison with other causes of injuries in the state and relative to national rates.)

d. The extent to which the applicant describes how injury surveillance data will be used in the context of the targeted intervention activities; the extent to which the applicant documents a process for updating or modifying the surveillance system as new needs are identified; the extent to which the description shows evidence that existing surveillance systems enable the injury program to: collect population-based information on the demographics and incidence of relevant injury morbidity and mortality; identify segments of the population who are at risk for the selected injury; identify factors contributing to the burden of this particular injury; and, when appropriate, monitor the number and characteristics of people served by relevant targeted intervention activities.

3. Collaborative Partnerships and Community Involvement (10 Points)

a. The extent to which evidence is presented which demonstrates the breadth and appropriateness of (1) existing linkages within and outside the State public health agency to coordinate diverse injury control activities, and (2) the current or proposed broad-based State collaborative partnership to advise and/or support a state injury advisory committee on state injury implementation activities.

b. The extent to which the applicant demonstrates that it will be able to mobilize support for the targeted intervention activities among the public and private sectors, including target communities.

c. The extent to which the applicant provides evidence it will enhance and build new linkages among partners to support existing and new surveillance systems to refine and evaluate targeted intervention activities and to further develop comprehensive injury prevention activities.

4. Methods and Staffing (30 points)

a. The extent to which the applicant includes goals which are relevant to the targeted intervention in the proposed injury area and feasible to accomplish during the project period.

b. The extent to which the applicant describes long and short term objectives which are specific, measurable, attainable, and realistic and which are time-framed process and outcome objectives designed to accomplish all activities of the targeted injury intervention(s).

c. The extent to which the applicant provides a program logic model that identifies and relates the critical elements of the targeted intervention activities with intended outcomes (e.g., inputs, activities, outputs, intermediate and longer term outcomes).

d. The extent to which the applicant provides a detailed framework for implementation of the targeted intervention plan that shows specific intervention activities beginning not later than the latter part of year 1 and that includes a description of expected inputs, resources, and activities (with time lines and organizations/persons responsible and proposed level of effort).

e. The extent to which the applicant provides: (1) A detailed description of how staffing resources (including programmatic, epidemiological and evaluation resources) will be allocated for each activity, and which includes designation of a coordinator with responsibility for coordinating the targeted intervention plan's activities; (2) a reasonable and complete schedule for implementing and completing all activities; and (3) evidence of access or assignment of epidemiological expertise for performing routine data review and analysis activities.

5. Evaluation (20 Points)

a. The extent to which the applicant describes an evaluation plan which includes questions and methods for assessing the targeted intervention's implementation, impact, costs, and the linkage between the targeted intervention activities and the intended outcomes. In addition, since these targeted intervention activities are intended to expand existing capacities in the state to prevent injuries, the extent to which evaluation questions and methods addressing this have been proposed.

b. The extent to which a feasible plan for: assuring the targeted intervention plan is being implemented as designed (i.e., what measure or indicators will be in place to monitor progress and fidelity of implementation); assessing the level of effort that may include developing guidance documents, training, intensity (how much and how often), reach, etc. and assessing program outputs and outcomes (intended/unintended, positive/negative) are included.

c. The extent to which the applicant describes data sources and linkages for evaluation purposes and methods to evaluate the data sources, and documents staff availability, expertise, experience, and capacity to perform the evaluation.

d. The extent to which the applicant describes a method for documenting lessons learned, including barriers (anticipated and unanticipated) and recommended changes or other considerations in future similar injury and violence prevention activities.

e. The extent the applicant provides a plan for collecting information related to costs associated with the project, including costs funded by the cooperative agreement, other sources, in-kind and donated (e.g., volunteer) and which include: personnel time (type, amount and hours per activity); equipment and materials; facilities; and any client inputs.

f. The extent to which the applicant provides a plan for describing increased capacities within the state and/or the state public health agency as a result of this project.

g. The extent to which the applicant provides a plan for reporting information on intervention implementation and evaluation results.

6. Budget and Justification (Not Scored)

The extent to which the applicant provides a detailed budget and narrative justification consistent with stated objectives and planned injury prevention program activities and includes an out of state travel budget for two state participants to attend an annual CDC grantees meeting in Atlanta, Georgia.

The Objective Review Panel shall assure that measures set forth in the application are in accordance with CDC's performance plans.

H. Other Requirements

Technical Reporting Requirements

Provide CDC with original plus two copies of:

1. Semiannual progress reports.

2. Financial status report, no more than 90 days after the end of the budget period.

3. Final financial and performance reports, no more than 90 days after the end of the project period.

4. The results of the Measures of Effectiveness shall be a data requirement to be submitted with or incorporated into the periodic progress reports.

Send all reports to the Grants Management Specialist identified in the “Where to Obtain Additional Information” section of this announcement.

The following additional requirements are applicable to this program. For a complete description of each, see Attachment I of the announcement.

AR-7 Executive Order 12372 Review

AR-8 Public Health System Reporting Requirements

AR-9 Paperwork Reduction Act Requirements

AR-10 Smoke-Free Workplace Requirements

AR-11 Healthy People 2010

AR-12 Lobbying Restrictions

AR-13 Prohibition on Use of CDC Funds for Certain Gun Control Activities

AR-14 Accounting System Requirements

AR-16 Security Clearance Requirement

I. Authority and Catalog of Federal Domestic Assistance Number

This program is authorized under section 301 (a) and 317k (2) (42 U.S.C. 241(a) and 247b (2)) of the Public Health Service Act, The Catalog of Federal Domestic Assistance number is 93.136.

J. Where To Obtain Additional Information

This and other CDC announcements can be found on the CDC home page Internet address— http://www.cdc.gov. Click on “Funding” then “Grants and Cooperative Agreements.”

If you have questions after reviewing the contents of all the documents, business management technical assistance may be obtained from: Nancy Pillar, Grants Management Specialist, Grants Management Branch, Procurement and Grants Office, Centers for Disease Control and Prevention, 2920 Brandywine Road, Room 3000, Atlanta, GA 30341-4146. Telephone number 770-488-2721. e-mail address: nfp6@cdc.gov.

For program technical assistance, contact: John Hemphill, Project Officer, National Center for Injury Prevention and Control, Centers for Disease Control and Prevention, Division of Injury Disability Outcomes and Programs, 4770 Buford Highway, NE, Mailstop KO2, Atlanta, GA 30341-3724. Telephone (770) 488-1285.

Dated: May 4, 2002.
Sandra R. Manning,
Director, Procurement and Grants Office, Centers for Disease Control and Prevention (CDC).

[FR Doc. 02-11563 Filed 5-8-02; 8:45 am]

BILLING CODE 4163-18-P